DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before June 17, 2005.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above. Please refer to the respective permit number for each application when requesting copies of documents.

SUPPLEMENTARY INFORMATION:

Permit No. TE-101462

Applicant: Peter Sarafian, Los Osos, California.

The applicant requests a permit to take (capture, relocate, and release) the Morro shoulderband snail (Helminthoglypta wakeriana) in conjunction with habitat restoration activities in San Luis Obispo County, California, for the purpose of enhancing its survival.

Permit No. TE-800291

Applicant: Anne C. Wallace, Grass Valley, California.

The permittee requests an amendment to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-101743

Applicant: Scott Larsen, Oakhurst, California.

The applicant requests a permit to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-102310

Applicant: Mitchell Dallas, Morro Bay, California.

The applicant requests a permit to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-102439

Applicant: Amy J. Kokx, Fresno, California.

The applicant requests a permit to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-837306

Applicant: Robert Lauri, San Diego, California.

The permittee requests an amendment to remove and reduce to possession (collect) the Piperia yadonii (Yadon's piperia) in conjunction with research and monitoring in Monterey County, California, for the purpose of enhancing its survival.

Permit No. TE-041673

Applicant: Rachel O'Malley, Santa Cruz, California.

The permittee requests an amendment to take (capture, handle, collect, and sacrifice) the Mount Hermon June beetle (Polyphylla barbata) in conjunction with life history research in Santa Cruz County, California, for the purpose of enhancing its survival.

Permit No. TE-103398

Applicant: Laurie Monarres, San Diego, California.

The applicant requests a permit to take (harass by survey) the light-footed clapper rail (Rallus longirostris levipes), the southwestern willow flycatcher (Empidonax traillii extimus), and the California least tern (Sterna antillarum browni), and take (nest monitor) the least Bell's vireo (Vireo bellii pusillus) in conjunction with surveys in Ventura, Los Angeles, Orange, and San Diego Counties, California, for the purpose of enhancing their survival.

Permit No. TE-076322

Applicant: Kimberly Toal, Ventura, California.

The applicant requests a permit to take (capture and mark) the San Bernardino kangaroo rat (Dipodomys merriami parvus), the Stephens' kangaroo rat (Dipodomys stephensi), and the Pacific pocket mouse (Perognathus longimembris pacificus) in conjunction with surveys throughout the range of each species in California for the purpose of enhancing their survival.

Permit No. TE-077395

Applicant: Jason Kurnow, San Diego, California.

The permittee requests an amendment to take (capture and collect and sacrifice) the Riverside fairy shrimp (Streptocephalus wootoni) and the San Diego fairy shrimp (Branchinecta sandiegonensis) in conjunction with surveys and monitoring throughout the range of each species in California for the purpose of enhancing their survival.

Permit No. TE-103400

Applicant: Terese Kastner, Menlo Park, California.

The applicant requests a permit to take (harass by survey and nest monitor) the southwestern willow flycatcher (Empidonax traillii extimus) and take (nest monitor) the least Bell's vireo (Vireo bellii pusillus) in conjunction with surveys throughout the range of each species in California for the purpose of enhancing their survival.

Permit No. TE-797267

Applicant: H.T. Harvey and Associates, San Jose, California.

The permittee requests an amendment to take (harass by survey, capture, band, and color-band) the southwestern willow flycatcher (Empidonax traillii extimus) in conjunction with surveys throughout the range of the species in California for the purpose of enhancing its survival.

Permit No. TE-103707

Applicant: California State University, Long Beach, California.

The applicant requests a permit to take (harass) the southwestern willow flycatcher (Empidonax traillii extimus) in conjunction with vocalization research in San Diego and Kern Counties, California, and Gila and Mojave Counties, Arizona, for the purpose of enhancing its survival.

We solicit public review and comment on each of these recovery permit applications.

Dated: May 5, 2005.
Michael Fris,
Acting Manager, California/Nevada Operations Office, U.S. Fish and Wildlife Service.

[FR Doc. 05-9886 Filed 5-17-05; 8:45 am]

BILLING CODE 4310-55-P